GENERAL SERVICES ADMINISTRATION

[OMB Control No. 3090-0278; Docket No. 2020-0001; Sequence No. 1]

Information Collection; USA.gov National Contact Center Customer Evaluation Survey

AGENCY: USA.gov Contact Center, General Services Administration (GSA).

ACTION: Notice of request for comments regarding an extension to an OMB clearance.

SUMMARY: Under the provisions of the Paperwork Reduction Act, the Regulatory Secretariat Division will be submitting to the Office of Management and Budget (OMB) a request to review and approve an extension of a previously approved information collection requirement regarding the National Contact Center customer evaluation surveys.

DATES: Submit comments on or before: July 15, 2020.

FOR FURTHER INFORMATION CONTACT: Mr. David Kaufmann, Program Analyst, Office of Technology Transformation Services, via email to david.kaufmann@gsa.gov, or at 202-357-9661.

ADDRESSES: Written comments and recommendations for this information collection should be sent within 30 days of publication of this notice to www.reginfo.gov/public/do/PRAMain. Find this particular information collection by selecting “Currently under Review—Open for Public Comments” or by using the search function.

SUPPLEMENTARY INFORMATION:

A. Purpose

This information collection will be used to assess the public's satisfaction with the USA.gov National Contact Center service (formerly the Federal Citizen Information Center's (FCIC) National Contact Center), to assist in increasing the efficiency in responding to the public's need for Federal information, and to assess the effectiveness of marketing efforts.

B. Annual Reporting Burden

The following are estimates of the annual hourly burdens for our surveys based on historical participation in our surveys.

(1) Telephone Survey:

Respondents: 6000.

Responses per Respondent: 1.

Annual Responses: 6000.

Hours per Response: 0.12.

Total Burden Hours: 720.

(2) Web Chat Survey:

Respondents: 2400.

Responses per Respondent: 1.

Annual Responses: 2400.

Hours Per Response: 0.12.

Total Burden Hours: 288.

Grand Total Burden Hours: 1008.

C. Public Comments

A 60-day notice was published in the Federal Register at 85 FR 17333 on March 27, 2020. No comments were received.

OBTAINING COPIES OF PROPOSALS: Requesters may obtain a copy of the information collection documents from the GSA Regulatory Secretariat Division (MVCB)by calling 202-501-4755, or emailing GSARegSec@gsa.gov. Please cite OMB Control No. 3090-0278, National Contact Center Customer Evaluation Survey, in all correspondence.

Beth Ann Killoran,
Deputy Chief Information Officer.

[FR Doc. 2020-12184 Filed 6-12-20; 8:45 am]

BILLING CODE 6820-CX-P